ENVIRONMENTAL PROTECTION AGENCY

40 CFR Part 751

[EPA-HQ-OPPT-2020-0465; FRL-8155.1-02-OCSPP]

RIN 2070-AL28

Methylene Chloride; Regulation Under the Toxic Substances Control Act (TSCA); Compliance Date Extension

AGENCY: Environmental Protection Agency (EPA).

ACTION: Final rule.

SUMMARY: The Environmental Protection Agency (EPA or Agency) is finalizing an extension to the compliance dates applicable to certain entities subject to the regulation of methylene chloride promulgated under the Toxic Substances Control Act (TSCA). Specifically, EPA is finalizing an 18-month extension of the Workplace Chemical Protection Program (WCPP) and associated recordkeeping compliance dates for industrial or commercial laboratories that are not owned or operated by Federal agencies or contractors acting on behalf of the Federal government. Under this final rule, all non-Federal laboratories will share the same compliance dates with Federal and Federally contracted laboratories. EPA is finalizing an extension of the compliance dates for associated laboratory activities detailed in this final rule to avoid disruption of important functions of non-Federal laboratories such as the use of environmental monitoring methods needed for cleanup sites and wastewater treatment, as well as activities associated with university laboratories or law enforcement laboratories.

DATES: This final rule is effective on December 15, 2025.

ADDRESSES: EPA has established a docket for this action under Docket ID No. EPA-HQ-OPPT-2020-0465. All documents in the docket are available on the Federal eRulemaking Portal at https://www.regulations.gov. Although listed in the index some information is not publicly available, e.g., Confidential Business Information (CBI) or other information whose disclosure is restricted by statute. Certain other information, such as copyrighted material, will be available only in hard copy form.

FOR FURTHER INFORMATION CONTACT:

For technical information contact: Daniel Whitby, Existing Chemicals Risk Management Division, Office of Pollution Prevention and Toxics, Environmental Protection Agency, 1200 Pennsylvania Ave. NW, Washington, DC 20460-0001; telephone number: (202) 564-0598; email address: MethyleneChlorideTSCA@epa.gov.

For general information contact: The TSCA Assistance Information Service Hotline, Goodwill Vision Enterprises, 422 South Clinton Ave., Rochester, NY 14620; telephone number: (800) 471-7127 or (202) 554-1404; email address: TSCA-Hotline@epa.gov.

SUPPLEMENTARY INFORMATION:

I. Executive Summary

A. Does this action apply to me?

You may be potentially affected by this final rule if you use methylene chloride in a non-Federal laboratory setting for the following activities: the industrial or commercial use of methylene chloride in a laboratory process or in specialized laboratory equipment for instrument calibration/maintenance; chemical analysis, chemical synthesis, extracting and purifying other chemicals; dissolving other substances; executing research, development, test and evaluation methods; and similar activities, such as use as a solvent, reagent, analytical standard, or other experimental use. Such laboratory activities may also include methylene chloride use in sample extraction for analysis or preparation for standards for environmental testing, as a mobile phase component in thin-layer chromatography (TLC), as a solvent for column chromatography separation, or the preparation of gas chromatography analyses. Industrial and commercial use of methylene chloride as a laboratory chemical applies to all laboratories, including industrial, commercial, academic and research laboratories, except for those laboratories owned or operated by a Federal agency or a contractor acting on behalf of the Federal government for research, government, and academic institutions. Potentially affected entities may include, but are not limited to:

• Testing Laboratories (NAICS code 541380);

• Research and Development in the Physical, Engineering, and Life Sciences (except Nanotechnology and Biotechnology) (NAICS codes 541715 or 541710);

• Hazardous Waste Treatment and Disposal (NAICS code 562211);

• Solid Waste Combustors and Incinerators (NAICS code 562213);

• Colleges, Universities, and Professional Schools (NAICS code 611310); and

• Medical and Diagnostic Laboratories (NAICS codes 621511 or 621999).

B. What is the Agency's authority for taking this action?

Under TSCA section 6(a) (15 U.S.C. 2605(a)), if EPA determines that “the manufacture, processing, distribution in commerce, use, or disposal of a chemical substance . . . presents an unreasonable risk of injury to health or the environment,” EPA shall, by rule, “apply one or more of [the requirements in TSCA section 6(a)(1) through (7)] to such substance . . . to the extent necessary so that the chemical substance . . . no longer presents such risk.”

In 2024, EPA promulgated a final risk management rule under TSCA section 6(a) for methylene chloride. In 2025, EPA proposed revisions specific to the non-Federal laboratory requirements of the 2024 rule. Unless provided otherwise by law, agencies may change existing positions (e.g., reconsider, revise, or rescind prior rules) provided that they acknowledge the change in position, offer a reasoned explanation for the change, and take any serious reliance interests into account. See, e.g., FDA v. Wages & White Lion Invs., L.L.C., 145 S. Ct. 898, 917 (2025); Encino Motorcars v. Navarro, 579 U.S. 211, 221 (2016); FCC v. Fox Television Stations, Inc., 556 U.S. 502, 515 (2009); Motor Vehicle Mfrs. Ass'n v. State Farm Mut. Auto. Ins. Co., 463 U.S. 29 (1983). For the reasons set out in Units I.D and III.A, EPA is finalizing its proposed rule revising the 2024 risk management rule for methylene chloride to extend the WCPP compliance dates by an additional 18 months for non-Federal laboratories. Based on information submitted by regulated entities, the Agency has determined that revising the compliance dates as proposed is necessary to provide adequate implementation time and to avoid disrupting environmental monitoring and associated laboratory-based activities discussed further in Unit III.A and in Unit II.C.3 of the 2025 proposed rule (Ref. 1).

C. What action is the Agency taking?

EPA is amending 40 CFR 751.109 to extend the WCPP compliance dates for non-Federally owned or operated industrial or commercial laboratories by an additional 18 months. This amendment aligns the compliance dates for non-Federally owned or operated industrial or commercial laboratories with the compliance dates established in the 2024 risk management rule for Federal agencies and their contractors (Ref. 2). Specifically, this final rule extends three compliance dates for non-Federally owned or operated industrial or commercial laboratories. For initial monitoring, the compliance date is extended from May 5, 2025, to November 9, 2026. For establishing regulated areas and ensuring compliance with the Existing Chemical Exposure Limit (ECEL), the compliance date is extended from August 1, 2025, to February 8, 2027. For ensuring the methods of compliance with EPA's exposure limits and for developing and implementing an exposure control plan, the compliance date is extended from October 30, 2025, to May 10, 2027. While the focus of this action is to extend the compliance dates of the WCPP for non-Federal laboratories using methylene chloride, EPA will consider all information received during this rulemaking towards future TSCA section 6(a) rulemakings.

D. Why is the Agency taking this action?

EPA is issuing this final rule to mitigate the unanticipated hardships inadvertently created for non-Federal laboratories by the WCPP compliance dates established as part of the May 2024 final rule on methylene chloride (Ref. 2). These hardships, due to the widespread, often mandatory, use of methylene chloride as a laboratory chemical, were not fully understood by EPA before the 2024 final rule was published. As discussed in greater detail in Unit I.D of the proposed rule, EPA was not aware of the breadth of laboratories needing to comply with the WCPP as a result of mandatory EPA analytical methods that require the use of methylene chloride to perform the analysis, posing unique compliance challenges when combined with other requirements of the WCPP such as conducting exposure monitoring, developing exposure control plans, and assess and acquire necessary personal protective equipment based on the exposure monitoring.

EPA recognizes that environmental monitoring services conducted on feeds, fertilizers, pesticides, agricultural samples, soil, water, sludge, solids, and air on behalf of states, private firms, and Federal agencies are vital in ensuring the protection of both human health and the environment. Therefore, EPA is finalizing the compliance date extension as proposed to ensure continuity of public safety services such as environmental monitoring services, the detection of explosives and other controlled substances, and forensic analyses conducted by law enforcement laboratories. The finalized compliance date extension would also mitigate disruptions to important laboratory functions that may indirectly benefit public health and/or safety through research and development and through academic grants for Research 1 universities under the Carnegie Classification of Institutions of Higher Education.

E. What are the incremental economic impacts?

EPA evaluated the potential incremental economic impacts and determined that these changes would have minimal impacts on the estimated costs and benefits of the existing action and would primarily result in a delay in when those costs and benefits begin accruing, thereby resulting in cost savings related to the time value of money. Quantified costs are expected to be the same as estimated in the 2024 final rule but will not be incurred until the final compliance date extension expires. The extension would also delay when potential benefits begin to accrue. On balance, this final action which further extends the compliance dates is appropriate to prevent the disruptive consequences of requiring laboratories to begin implementing the WCPP by May 5, 2025, without a further compliance extension.

II. Background

A. Regulation of Methylene Chloride Under the Toxic Substances Control Act (TSCA)

In May 2023, EPA proposed a rule under TSCA section 6(a) to address unreasonable risk posed by methylene chloride under its conditions of use (Refs. 3, 4, 5). The proposed rule included the requirement that industrial and commercial laboratories implement a WCPP. EPA received comments from laboratory-affiliated stakeholders that expressed concerns of the potential impacts for environmental testing and compliance activities required by EPA's analytical methods. The commenters requested that EPA adopt a risk management approach for laboratories that was similar to the perchloroethylene rule (89 FR 103560) (FRL-8329-01-OCSPP), or prior to promulgating the requirements of the WCPP, EPA should first remove the regulatory requirements under other EPA program's that require the use of analytical methods that use methylene chloride (Refs. 6, 7, 8). EPA considered these comments and, in the final rule promulgated in May 2024, extended the WCPP compliance dates by an additional six months. For more details, see the 2025 proposed rule (Unit II), the 2024 final rule (Unit III.D.1), and Response to Comments for the 2024 final rule (Section 5.1.7) (Refs. 1, 2, 6).

B. The 2025 Notice of Proposed Rulemaking To Extend Certain Compliance Dates

In May 2025, EPA proposed to extend the applicable compliance dates for non-Federal owners or operators that use methylene chloride as a laboratory chemical to align with the timeframes for Federal laboratories and Federal contractors. Under the 2025 proposed rule, laboratories would have until November 9, 2026, to conduct initial monitoring, until February 8, 2027, to establish regulated areas and ensure compliance with the ECEL and EPA STEL, and until May 10, 2027, to develop and implement an exposure control plan. As explained in Units II.C and III.B of the proposed rule, EPA based the compliance date revision on multiple factors including challenges of WCPP compliance identified by laboratories and methylene chloride's utility in support of: academia as a laboratory solvent; public health in environmental compliance testing; and in various city and state law enforcement crime laboratories. EPA provided a 30-day public comment period that concluded on June 26, 2025.

C. Summary of Public Comments

EPA received 28 comments from various universities, trade organizations, state government entities, an environmental laboratory, and several individuals, some of whom previously commented on the 2023 proposed rule. The vast majority of commenters supported the 2025 proposed rule to extend the WCPP compliance timeframes for non-Federal laboratories. One commenter disagreed with EPA's approach in the proposed rule approach and “recommend[ed] the [EPA] immediately fully regulate methylene chloride and not extend the time for compliance for safety considerations.” Some commenters additionally requested an exemption for the laboratory condition of use from the requirements of the WCPP, while others requested that EPA take alternative risk management approaches, develop alternative analytical methods prior to restrictions, or include additional COUs under the compliance extension. Several commenters submitted information related to compliance and impacts of the 2024 final rule on laboratories. For EPA's response to these comments, see the 2025 Response to Public Comments document that accompanies this final rule (Ref. 9).

III. Rationale

Based on public comments, EPA is finalizing the rule to extend the WCPP compliance timeframes by an additional 18 months for non-Federal laboratories as proposed. Units III.A and III.B set forth the information that EPA considered and EPA's rationale for the final rule.

A. Compliance Date Extension

For any TSCA section 6(a) rule, EPA must specify mandatory compliance dates that are “as soon as practicable” within the 5-year window after promulgating the rule, while allowing for “a reasonable transition period.” 15 U.S.C. 2605(d)(1)(B) and (E). EPA proposed to extend the WCPP compliance dates for non-Federally owned or operated industrial or commercial laboratories by an additional 18 months based on the challenges laboratories are facing to comply with the WCPP requirements, including their inability to choose a different, less toxic solvent when performing analyses, especially environmental monitoring sample analyses that must be performed in accordance with specified methods, and the availability and cost of industrial hygiene personnel to conduct initial monitoring. EPA proposed that this extension resulted in compliance dates that represent a reasonable transition period under TSCA section 6(d) (Ref. 1).

In Unit III.B of the 2025 proposed rule, EPA requested information including the viability of the proposed compliance dates, alternative timeframes for consideration, and compliance costs (Ref. 1). During the public comment period, EPA received additional information on regulatory impacts, realized and estimated costs, allocation of funding under research grants, the number of potentially exposed persons, professional safety services, exposure controls, the number of facilities, the number of laboratories, the frequency of tasks, the volumes of methylene chloride used, compliance with the Occupational Safety and Health Administration's laboratory standard (29 CFR 1910.1450) and adherence to voluntary consensus standards, use of similar exposure groups, and air monitoring measurements. Given the additional information from commenters, EPA determined that implementing a WCPP in a laboratory presents unique compliance challenges, particularly with respect to when implementing a WCPP is practicable and what amounts to a reasonable transition period for this use. EPA also recognizes that extrapolating the WCPP's requirements over numerous facilities, laboratories, and personnel, especially taking infrequent or low-volume use (laboratory scale) into account, can increase the magnitude of those challenges for some laboratories such as those owned or operated by large academic institutions.

For example, according to a comment submitted by a large university, without adequate time to implement the WCPP's requirements, some laboratories may be unable to meet the compliance timeframes. The university suggested that an extension of the compliance timeframes would allow them to complete initial monitoring for additional research groups (Ref. 10). EPA agrees that additional compliance time is necessary to avoid disruption of important laboratory functions, as well as allowing non-Federal laboratories sufficient time to come into compliance and fully protect potentially exposed persons from exposure. Similarly, a comment provided by a state Department of Environmental Quality also expressed support for a compliance timeframe extension and noted that their environmental laboratory, which has ceased certain environmental analyses that use of methylene chloride, would cease use of methylene chloride again once the revised compliance date was reached due to costs (Ref. 11). Based on comments like these, the Agency determined that extending the WCPP's compliance dates will result in compliance dates that represent a reasonable transition period, allowing for the continuity of vital laboratory functions that protect human health and the environment such as environmental monitoring analyses that serve communities across the United States and help facilitate clean soil, water, and air.

B. Data Supporting Alternative Risk Management Approaches for Laboratories

Laboratory-affiliated commenters also submitted information and data that could potentially support alternative risk management approaches for laboratories regulated under TSCA. While the focus of this final rulemaking is to extend compliance dates of the WCPP for non-Federal laboratories using methylene chloride, EPA will consider all submitted information from commenters in future TSCA rulemakings, as appropriate.

IV. Provisions of This Final Rule

EPA is finalizing this rule as proposed. EPA is aligning the compliance dates for non-Federal laboratories using methylene chloride with those for Federal agencies and their contractors in the 2024 final rule (Ref. 2). This extension of compliance dates addresses the issues with the practicability of the originally promulgated compliance dates identified by non-Federal laboratories, including their inability to choose a different, less toxic solvent when performing analyses, especially environmental monitoring sample analyses that must be performed in accordance with specified methods, and cost of industrial hygiene personnel to conduct initial monitoring within an adequate amount of time. The Agency believes that these final compliance dates represent a reasonable transition period under TSCA section 6(d). Moreover, aligning with the compliance dates that were already established for Federal agencies and their contractors as part of the 2024 final rule will minimize confusion by consolidating multiple compliance dates. Specifically, non-Federal laboratories under this final rule will have until November 9, 2026, to conduct initial monitoring, until February 8, 2027, to establish regulated areas and ensure compliance with the ECEL and EPA STEL, and until May 10, 2027, to develop and implement an exposure control plan.

V. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. EPA. Methylene Chloride; Regulation Under the Toxic Substances Control Act (TSCA); Compliance Date Extensions; Proposed Rule. RIN 2070-AL28. Federal Register (90 FR 22214, May 27, 2025) (FRL-8155.1-01-OCSPP). https://www.govinfo.gov/content/pkg/FR-2025-05-27/pdf/2025-09421.pdf.

2. EPA. Methylene Chloride; Regulation under the Toxic Substances Control Act; Final Rule. RIN 2070-AK70. Federal Register (89 FR 39254, May 8, 2024) (FRL-8155-01-OCSPP). https://www.govinfo.gov/content/pkg/FR-2024-05-08/pdf/2024-09606.pdf.

3. EPA. Methylene Chloride; Regulation Under the Toxic Substances Control Act (TSCA); Proposed Rule. Federal Register (88 FR 28284, May 3, 2023) (FRL-8155-02-OCSPP). https://www.govinfo.gov/content/pkg/FR-2023-05-03/pdf/2023-09184.pdf.

4. EPA. Risk Evaluation for Methylene Chloride (MC). EPA Document #740-R1-8010. June 2020.

5. EPA. Revised Unreasonable Risk Determination for Methylene Chloride (MC). EPA-HQ-OPPT-2020-0465-0116. October 2022.

6. EPA. Methylene Chloride; Regulation Under the Toxic Substances Control Act (TSCA); Response to Public Comments. RIN 2070-AK70. April 2024.

7. Judith Morgan and David Friedman. American Council of Independent Laboratories (ACIL). Comment EPA-HQ-OPPT-2020-0465-0258. June 6, 2023.

8. Judy Morgan. Pace Analytical. Comment EPA-HQ-OPPT-2020-0465-0274. July 7, 2023.

9. EPA. Methylene Chloride; Regulation Under the Toxic Substances Control Act (TSCA); Compliance Date Extensions. Response to Public Comments. RIN 2070-AL28. October 2025.

10. Katharine Bonneson. University of Minnesota. Comment EPA-HQ-OPPT-2020-0465-0475. June 26, 2025.

11. Jeff Starling. State of Oklahoma Office of the Secretary of Energy and Environment and Oklahoma Department of Environmental Quality (ODEQ). Comment EPA-HQ-OPPT-2020-0465-0476. June 26, 2025.

VI. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action under Executive Order 12866 (58 FR 51735, October 4, 1993) and was therefore not submitted to the Office of Management and Budget (OMB) for review under Executive Orders 12866 and 13563 (76 FR 3821, January 21, 2011).

B. Executive Order 14192: Unleashing Prosperity Through Deregulation

This action is an Executive Order 14192 deregulatory action. This final rule will provide burden reduction by providing relief against existing compliance deadlines, thereby resulting in cost savings related to the time value of money. EPA is providing compliance relief to non-federal laboratories, including state and local affiliated laboratories that conduct environmental sampling analyses in support of clean air, water, and land for the American public, by aligning compliance timeframes with those separately established for federal agencies and their contractors in the 2024 final rule for methylene chloride, thereby streamlining requirements while mitigating confusion for all laboratories.

C. Paperwork Reduction Act (PRA)

This action does not impose any new information collection activities or burden subject to OMB review and approval under the PRA, 44 U.S.C. 3501 et seq. However, this action defers the costs associated with paperwork and recordkeeping burden for an existing information collection because the delayed compliance date alters the time horizon of the collection's analysis. Burden is defined in 5 CFR 1320.3(b). OMB has previously approved the information collection activities contained in the existing regulations and associated burden under OMB Control No. 2070-0229 (EPA ICR No. 2735.02). An agency may not conduct or sponsor, and a person is not required to respond to a collection of information that requires OMB approval under PRA, unless it has been approved by OMB and displays a currently valid OMB control number. The OMB control numbers for EPA's regulations in title 40 of the CFR, after appearing in the Federal Register, are listed in 40 CFR part 9, and included on the related collection instrument or form, if applicable.

D. Regulatory Flexibility Act (RFA)

I certify that this action will not have a significant economic impact on a substantial number of small entities under the RFA, 5 U.S.C. 601 et seq. In making this determination, EPA concludes that the impact of concern for this action is any significant adverse economic impact on small entities, and the Agency is certifying that this rule will not have a significant economic impact on a substantial number of small entities because the rule relieves regulatory burden. This action would extend the compliance dates for several provisions of the WCPP for approximately 18 months for the industrial and commercial use of methylene chloride as a laboratory chemical. EPA therefore concluded that this action would relieve regulatory burden for those entities engaged in the industrial and commercial use of methylene chloride as a laboratory chemical.

E. Unfunded Mandates Reform Act (UMRA)

This action does not contain an unfunded mandate of $100 million (in 1995 dollars and adjusted annually for inflation) or more as described in UMRA, 2 U.S.C. 1531-1538, and does not significantly or uniquely affect small governments. The costs involved in this action are estimated not to exceed $187 million in 2024$ ($100 million in 1995$, adjusted for inflation using the GDP implicit price deflator) or more in any one year.

F. Executive Order 13132: Federalism

This action does not have federalism implications as specified in Executive Order 13132 (64 FR 43255, August 10, 1999) because it will not have substantial direct effects on the states, on the relationship between the national government and the states, or on the distribution of power and responsibilities among the various levels of government.

G. Executive Order 13175: Consultation and Coordination With Indian Tribal Governments

This action does not have tribal implications as specified in Executive Order 13175 (65 FR 67249, November 9, 2000) because it does not have substantial direct effects on one or more Indian tribes, on the relationship between the Federal Government and Indian tribes, or on the distribution of power and responsibilities between the Federal Government and Indian tribes. Thus, Executive Order 13175 does not apply to this action.

H. Executive Order 13045: Protection of Children From Environmental Health Risks and Safety Risks

This action is not a “covered regulatory action” under Executive Order 13045 (62 FR 19885, April 23, 1997) because it is not a significant regulatory action under section 3(f)(1) of Executive Order 12866 and because the EPA does not believe the environmental health or safety risks addressed by this action present a disproportionate risk to children.

I. Executive Order 13211: Actions Concerning Regulations That Significantly Affect Energy Supply, Distribution, or Use

This action is not subject to Executive Order 13211 (66 FR 28355, May 22, 2001), because it is not a significant regulatory action under Executive Order 12866.

J. National Technology Transfer and Advancement Act (NTTAA)

This action does not involve technical standards under the NTTAA section 12(d), 15 U.S.C. 272. Although EPA determined that the WCPP requirements of the May 2024 final rule involve environmental monitoring or measurement, specifically for occupational inhalation exposures to methylene chloride and, consistent with the Agency's Performance Based Measurement System, decided not to require the use of specific, prescribed analytic methods, this action simply extends the compliance dates for non-Federal laboratories.

K. Congressional Review Act (CRA)

This action is subject to the CRA, 5 U.S.C. 801 et seq., and EPA will submit a rule report to each House of the Congress and to the Comptroller General of the United States. This action is not a “major rule” as defined by 5 U.S.C. 804(2).

List of Subjects in 40 CFR Part 751

Environmental protection, Chemicals, Export notification, Hazardous substances, Import certification, Reporting and recordkeeping.

Lee Zeldin,
Administrator.

For the reasons set forth in the preamble, 40 CFR part 751 is amended as follows:

PART 751—REGULATION OF CERTAIN CHEMICAL SUBSTANCES AND MIXTURES UNDER SECTION 6 OF THE TOXIC SUBSTANCES CONTROL ACT

1. The authority citation for part 751 continues to read as follows:

Authority: 15 U.S.C. 2605, 15 U.S.C. 2625(l)(4).

2. Amend § 751.109 by revising paragraphs (c), (d)(2), (e)(1)(i), (e)(2), (f)(1), and (g)(1) to read as follows:

§ 751.109 Workplace Chemical Protection Program.

* * * * *

(c) Exposure limits—(1) ECEL. The owner or operator must ensure that no person is exposed to an airborne concentration of methylene chloride in excess of 2 parts of methylene chloride per million parts of air (2 ppm) as an 8-hour TWA:

(i) After February 8, 2027, for Federal agencies, Federal contractors acting for or on behalf of the Federal Government;

(ii) After February 8, 2027, for non-Federal laboratories when using methylene chloride as a laboratory chemical;

(iii) After August 1, 2025, for other owners and operators; or

(iv) Beginning 4 months after the owner or operator introduces methylene chloride into the workplace, if methylene chloride use commences after May 5, 2025, consistent with paragraphs (d) through (f) of this section.

(2) EPA STEL. The owner or operator must ensure that no person is exposed to an airborne concentration of methylene chloride in excess of 16 parts of methylene chloride per million parts of air (16 ppm) as determined over a sampling period of 15 minutes:

(i) After February 8, 2027, for Federal agencies, Federal contractors acting for or on behalf of the Federal Government;

(ii) After February 8, 2027, for non-Federal laboratories when using methylene chloride as a laboratory chemical;

(iii) After August 1, 2025, for other owners and operators; or

(iv) Beginning 4 months after the owner or operator introduces methylene chloride into the workplace, if methylene chloride use commences after May 5, 2025, consistent with paragraphs (d) through (f) of this section.

(3) Regulated areas. The owner or operator must:

(i) Establish and maintain regulated areas in accordance with 29 CFR 1910.1052(e)(2) and (4) through (7):

(A) After February 8, 2027, for Federal agencies, Federal contractors acting for or on behalf of the Federal Government;

(B) After February 8, 2027, for non-Federal laboratories when using methylene chloride as a laboratory chemical;

(C) After August 1, 2025, for other owners and operators; or

(D) Within 3 months after the owner or operator's receipt of the results of any monitoring data consistent with paragraph (d) of this section.

* * * * *

(d) * * *

(2) Initial monitoring. (i) Unless otherwise specified in paragraphs (d)(2)(ii) or (iii) of this section, each owner or operator covered by this section must perform an initial exposure monitoring to determine each potentially exposed person's exposure:

(A) By November 9, 2026, for Federal agencies, Federal contractors acting for or on behalf of the Federal Government;

(B) By November 9, 2026, for non-Federal laboratories when using methylene chloride as a laboratory chemical;

(C) By May 5, 2025, for other owners and operators; or

(D) Within 30 days of the owner or operator introducing methylene chloride into the workplace, whichever is later.

(ii) An owner or operator has objective data generated within the last 5 years prior to May 8, 2024, that demonstrates to EPA that methylene chloride cannot be released in the workplace in airborne concentrations at or above the ECEL action level (1-ppm 8-hour TWA) or above the EPA STEL (16 ppm 15-minute TWA) and that the data represents the highest methylene chloride exposures likely to occur under conditions of use described in paragraph (a) of this section; or

(iii) Where potentially exposed persons are exposed to methylene chloride for fewer than 30 days per year, and the owner or operator has measurements by direct-metering devices which give immediate results and which provide sufficient information regarding exposures to determine and implement the control measures that are necessary to reduce exposures to below the ECEL action level and EPA STEL.

* * * * *

(e) * * *

(1) Methods of compliance.

(i) The owner or operator must institute one or a combination of elimination, substitution, engineering controls, work practices, or administrative controls to reduce exposure to or below the ECEL and EPA STEL except to the extent that the owner or operator can demonstrate that such controls are not feasible:

(A) By May 10, 2027, for Federal agencies, Federal contractors acting for or on behalf of the Federal Government;

(B) By May 10, 2027, for non-Federal laboratories using methylene chloride as a laboratory chemical;

(C) By October 30, 2025, for other owners and operators; or

(D) Within 7 months of the owner or operator introducing methylene chloride into the workplace.

* * * * *

(2) Exposure control plan.

(i) Exposure control plan deadlines.

(A) By May 10, 2027, for Federal agencies, Federal contractors acting for or on behalf of the Federal Government;

(B) By May 10, 2027, for non-Federal laboratories using methylene chloride as a laboratory chemical;

(C) By October 30, 2025, for other owners and operators, the owner or operator must develop and implement an exposure control plan; or

(D) Within 7 months of the owner or operator introducing methylene chloride into the workplace.

(ii) Exposure control plan contents. The exposure control plan must include documentation of the following:

(A) Identification of exposure controls that were considered, including those that were used or not used to meet the requirements of paragraph (e)(1)(i) of this section, in the following sequence—elimination, substitution, engineering controls, and work practices and administrative controls;

(B) For each exposure control considered, a rationale for why the exposure control was selected or not selected based on feasibility, effectiveness, and other relevant considerations;

(C) A description of actions the owner or operator must take to implement the exposure controls selected, including proper installation, regular inspections, maintenance, training, or other actions;

(D) A description of regulated areas, how they are demarcated, and persons authorized to enter the regulated areas;

(E) A description of activities conducted by the owner or operator to review and update the exposure control plan to ensure effectiveness of the exposure controls, identify any necessary updates to the exposure controls, and confirm that all persons are properly implementing the exposure controls; and

(F) An explanation of the procedures for responding to any change that may reasonably be expected to introduce additional sources of exposure to methylene chloride, or otherwise result in increased exposure to methylene chloride, including procedures for implementing corrective actions to mitigate exposure to methylene chloride.

(iii) Exposure control plan requirements.

(A) The owner or operator must not implement a schedule of personnel rotation as a means of compliance with the ECEL.

(B) The owner or operator must maintain the effectiveness of any controls, instituted under paragraph (e) of this section.

(C) The exposure control plan must be reviewed and updated as necessary, but at least every 5 years, to reflect any significant changes in the status of the owner or operator's approach to compliance with paragraphs (c) through (e) of this section.

(iv) Availability of exposure control plan.

(A) Owners or operators must make the exposure control plan and associated records, including exposure monitoring, respiratory protection program implementation, and dermal protection program implementation records, available to potentially exposed persons.

(B) Owners or operators must notify potentially exposed persons of the availability of the plan and associated records within 30 days of the date that the exposure control plan is completed and at least annually thereafter. The notification must be provided in accordance with the requirements of paragraph (d)(5)(iii) of this section.

(C) Upon request by the potentially exposed person, the owner or operator must provide the specified records at a reasonable time, place, and manner. If the owner or operator is unable to provide the requested records within 15 days, the owner or operator must, within those 15 days, inform the potentially exposed person requesting the record(s) of the reason for the delay and the earliest date when the record can be made available.

* * * * *

(f) * * *

(1) Respirator conditions. The owner or operator must provide respiratory protection to all potentially exposed persons in the regulated area as outlined in paragraph (c)(3) of this section, and according to the provisions outlined in 29 CFR 1910.134(a) through (l) (except 29 CFR 1910.134(d)(1)(iii)) and as specified in this paragraph (f) for potentially exposed persons exposed to methylene chloride in concentrations above the ECEL or the EPA STEL. For the purpose of this paragraph (f), the maximum use concentration (MUC) as used in 29 CFR 1910.134 must be calculated by multiplying the assigned protection factor (APF) specified for a respirator by the ECEL or EPA STEL:

(i) After February 8, 2027, for Federal agencies, Federal contractors acting for or on behalf of the Federal Government;

(ii) After February 8, 2027, for non-Federal laboratories using methylene chloride as a laboratory chemical;

(iii) After August 1, 2025, for other owners and operators; or

(iv) Within 3 months after the owner or operator's receipt of the results of any exposure monitoring as described in paragraph (d) of this section.

* * * * *

(g) * * *

(1) The owner or operator must require the donning of gloves that are chemically resistant to methylene chloride with activity-specific training where dermal contact with methylene chloride is possible, after application of the requirements in paragraph (e) of this section, in accordance with the NIOSH hierarchy of controls:

(i) After February 8, 2027, for Federal agencies, Federal contractors acting for or on behalf of the Federal Government;

(ii) After February 8, 2027, for non-Federal laboratories using methylene chloride as a laboratory chemical; or

(iii) After August 1, 2025, for other owners and operators.

* * * * *

3. Amend § 751.113 by revising paragraph (e) to read as follows:

§ 751.113 Recordkeeping requirements.

* * * * *

(e) Availability of exposure control plans. Owners or operators must document the notice to and ability of any potentially exposed persons to access the exposure control plan and other associated records in accordance with § 751.109(e)(2)(iv).

* * * * *

[FR Doc. 2025-19881 Filed 11-12-25; 8:45 am]

BILLING CODE 6560-50-P